DEPARTMENT OF HOMELAND SECURITY

Federal Emergency Management Agency

44 CFR Part 67

[Docket ID FEMA-2011-0002; Internal Agency Docket No. FEMA-B-7786]

Proposed Flood Elevation Determinations

AGENCY: Federal Emergency Management Agency, DHS.

ACTION: Proposed rule; correction.

SUMMARY: On June 20, 2008, FEMA published in the Federal Register a proposed rule that contained an erroneous table. FEMA published corrections to that table on September 9, 2008, and on May 12, 2009. This notice provides corrections to that table, to be used in lieu of the information published at 73 FR 35112, at 73 FR 52234, and at 74 FR 22151. The table provided here represents the flooding sources, location of referenced elevations, effective and modified elevations, and communities affected for Plymouth County, Massachusetts (All Jurisdictions). Specifically, it addresses the following flooding sources: Aassawompsett Pond, Accord Brook, Atlantic Ocean, Bear Swamp, Doggett Brook, Fall Brook, French Stream, Great Quittacas Pond, Hathaway Pond, Hockomock River, Matfield River, Meadow Brook, Oldham Pond, Rocky Meadow Brook, Salisbury Plain River, Satucket River, Shumatuscacant River, Stream River, Third Herring Brook, Town River, Tributary A, Tributary to Meadow Brook, and Weweantic River.

DATES: Comments are to be submitted on or before November 14, 2011.

ADDRESSES: You may submit comments, identified by Docket No. FEMA-B-7786, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 73 FR 35112, in the June 20, 2008, issue of the Federal Register, FEMA published a table under the authority of 44 CFR 67.4. The table, entitled “Plymouth County, Massachusetts, and Incorporated Areas” addressed the flooding source Atlantic Ocean. That table contained inaccurate information as to the location of referenced elevation, effective and modified elevation in feet, and/or communities affected for that flooding source. In addition, it did not include the following flooding sources: Aassawompsett Pond, Accord Brook, Bear Swamp, Doggett Brook, Fall Brook, French Stream, Great Quittacas Pond, Hathaway Pond, Hockomock River, Matfield River, Meadow Brook, Oldham Pond, Rocky Meadow Brook, Salisbury Plain River, Satucket River, Shumatuscacant River, Stream River, Third Herring Brook, Town River, Tributary A, Tributary to Meadow Brook, and Weweantic River.

In the correction published at 73 FR 52234, in the September 9, 2008, issue of the Federal Register, FEMA published a table entitled “Plymouth County, Massachusetts (All Jurisdictions)” containing information that addressed the flooding source Atlantic Ocean, to be used in lieu of that published on June 20, 2008.

In the correction published at 74 FR 22151, in the May 12, 2009, issue of the Federal Register, FEMA published a table entitled “Plymouth County, Massachusetts (All Jurisdictions)” containing information that addressed the flooding source Atlantic Ocean, to be used in lieu of that published on September 9, 2008.

In this notice, FEMA is publishing a table containing the accurate information, to address these prior errors. The information provided below should be used in lieu of that previously published for Plymouth County, Massachusetts (All Jurisdictions).

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Plymouth County, Massachusetts (All Jurisdictions)
Aassawompsett Pond | Entire shoreline within community | None | +55 | Town of Middleborough.
Accord Brook | Approximately 3,300 feet upstream of State Route 228 | None | +115 | Town of Norwell.
Atlantic Ocean | Approximately 150 feet south of the intersection of Brant Beach Avenue and Ocean View Avenue | +17 | +19 | Town of Hingham, Town of Hull, Town of Marion, Town of Mattapoisett, Town of Wareham.
| Approximately 210 feet southeast of the intersection of Highland Avenue and Mount Pleasant Way | +9 | +22
Bear Swamp | The area around State Route 105 | None | +14 | Town of Rochester.
Doggett Brook | The area around State Route 105 | None | +14 | Town of Rochester.
Fall Brook | The low land area between Azel Road and Howland Road | None | +82 | Town of Lakeville.
French Stream | Approximately 1,200 feet upstream of the Golf Cart Bridge | None | +104 | Town of Abington.
| Approximately 900 feet downstream of Spruce Street | None | +123
Great Quittacas Pond | Entire shoreline within community | None | +55 | Town of Middleborough, Town of Rochester.
Hathaway Pond | The area around State Route 105 | None | +14 | Town of Rochester.
Hockomock River | At the Town River confluence | None | +63 | Town of Bridgewater.
| Approximately 1,000 feet downstream of the Maple Street Bridge | None | +63
Matfield River | At the Bridge Street bridge | None | +33 | Town of East Bridgewater.
| Approximately 260 feet upstream of the Bridge Street bridge | None | +33
Meadow Brook | Approximately 300 feet downstream of State Route 18 | None | +75 | Town of Whitman.
Oldham Pond | Entire shoreline within community | None | +59 | Town of Hanson.
Rocky Meadow Brook | At the Weweantic River confluence | None | +77 | Town of Middleborough.
| Approximately 0.75 mile upstream of France Street | None | +84
Salisbury Plain River | Approximately 1 mile downstream of the Sergents Way Bridge | None | +67 | Town of West Bridgewater.
| Approximately 3,200 feet downstream of the Sergents Way Bridge | None | +70
Satucket River | Just upstream of the Pond Street Bridge | None | +42 | Town of Halifax.
Shumatuscacant River | Approximately 1,000 feet upstream of the Essex Street Bridge | None | +78 | Town of Whitman.
| Approximately 3,000 feet upstream of the Essex Street Bridge | None | +80
Stream River | At the Shumatuscacant River confluence | None | +80 | Town of Whitman.
| Approximately 400 feet upstream of the Shumatuscacant River confluence | None | +80
Third Herring Brook | From downstream of the River Street Bridge to the North River confluence | None | +8 | Town of Hanover.
Town River | Approximately 1,200 feet upstream of the High Street Bridge | None | +47 | Town of Bridgewater.
| Approximately 1,500 feet upstream of the High Street Bridge | None | +48
| Approximately 1,100 feet upstream of the Forest Road Bridge | None | +62
| At the Hockomock River confluence | None | +63
Tributary A | Just upstream of the Summer Street Bridge | None | +71 | Town of Hanover.
Tributary to Meadow Brook | Approximately 1,300 feet upstream of the Meadow Brook confluence | None | +75 | Town of Whitman.
| Approximately 1,600 feet upstream of the Meadow Brook confluence | None | +75
Weweantic River | Approximately 1 mile downstream of State Route 58 | None | +63 | Town of Middleborough, Town of Wareham.
| At the Rocky Meadow Brook confluence | None | +77
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Abington
Maps are available for inspection at the Town Hall, 500 Gliniewicz Way, Abington, MA 02351.
Town of Bridgewater
Maps are available for inspection at the Town Hall, 66 Central Square, Bridgewater, MA 02324.
Town of East Bridgewater
Maps are available for inspection at the Town Hall, 175 Central Street, East Bridgewater, MA 02333.
Town of Halifax
Maps are available for inspection at the Town Hall, 499 Plymouth Street, Halifax, MA 02338.
Town of Hanover
Maps are available for inspection at the Town Hall, 550 Hanover Street, Suite 29, Hanover, MA 02339.
Town of Hanson
Maps are available for inspection at the Town Hall, 542 Liberty Street, Hanson, MA 02341.
Town of Hingham
Maps are available for inspection at the Town Hall, 210 Central Street, Hingham, MA 02043.
Town of Hull
Maps are available for inspection at the Town Hall, 253 Atlantic Avenue, Hull, MA 02045.
Town of Lakeville
Maps are available for inspection at the Town Hall, 346 Bedford Street, Lakeville, MA 02347.
Town of Marion
Maps are available for inspection at the Town Hall, 2 Spring Street, Marion, MA 02738.
Town of Mattapoisett
Maps are available for inspection at the Town Hall, 16 Main Street, Mattapoisett, MA 02739.
Town of Middleborough
Maps are available for inspection at the Town Hall, 10 Nickerson Avenue, Middleborough, MA 02346.
Town of Norwell
Maps are available for inspection at the Town Hall, 345 Main Street, Norwell, MA 02061.
Town of Rochester
Maps are available for inspection at the Town Hall, 1 Constitution Way, Rochester, MA 02770.
Town of Wareham
Maps are available for inspection at the Memorial Town Hall, Administration Department, 54 Marion Road, Wareham, MA 02571.
Town of West Bridgewater
Maps are available for inspection at the Town Hall, 65 North Main Street, West Bridgewater, MA 02379.
Town of Whitman
Maps are available for inspection at the Town Hall, 54 South Avenue, Whitman, MA 02382.

(Catalog of Federal Domestic Assistance No. 97.022, “Flood Insurance.”)

Dated: August 5, 2011.
Sandra K. Knight,
Deputy Federal Insurance and Mitigation Administrator, Mitigation, Department of Homeland Security, Federal Emergency Management Agency.

[FR Doc. 2011-20713 Filed 8-12-11; 8:45 am]

BILLING CODE 9110-12-P